DEPARTMENT OF THE INTERIOR

Bureau of Land Management

[LLNML00000.L71220000.EU0000 LVTFG11G4360; NMNM 125550]

Notice of Realty Action: Non-Competitive (Direct) Sale of Public Land in Otero County, NM

AGENCY: Bureau of Land Management, Interior.

ACTION: Notice of realty action.

SUMMARY: The Bureau of Land Management (BLM) will offer to sell a parcel of public land totaling 10 acres in Otero County, New Mexico. The BLM will consider a direct sale to Todd Taylor, the adjoining landowner, under the provisions of the Federal Land Policy and Management Act of 1976 (FLPMA), to resolve an inadvertent occupancy trespass. The BLM will not sell the parcel for less than the appraised fair market value of $49,000.

DATES: Interested parties may submit written comments regarding the proposed sale and received by the BLM on or before April 14, 2014.

ADDRESSES: You may submit written comments regarding the proposed sale by any of the following methods:

• Email: blm_nm_lcdo_comments@blm.gov.

• Fax: 575-525-4412, Attention: Frances Martinez.

• Mail or personal delivery: Frances Martinez, Taylor Land Sale Project Lead, BLM Las Cruces District Office, 1800 Marquess Street, Las Cruces, New Mexico 88005.

Comments expressed verbally will not be accepted.

FOR FURTHER INFORMATION CONTACT: Frances Martinez, Realty Specialist, at the address above, by telephone 575-525-4385, or by email at fmartine@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM will consider the public land described below for direct sale in accordance with Section 203 of FLPMA (43 U.S.C. 1713).

New Mexico Principal Meridian

T. 13 S., R. 11 E.,

Sec. 28, NE¼NE¼NE¼.

The area described contains 10 acres in Otero County, New Mexico.

The BLM will consider selling the 10-acre parcel through a direct sale of public lands to resolve an inadvertent occupancy trespass. 43 CFR 2711.3-3(a)(5). The parcel proposed for sale is the smallest size possible to resolve the trespass. The BLM identified the parcel as suitable for disposal in the White Sands Resource Management Plan (RMP), dated October 1986, and the September 1986 Record of Decision. The sale meets the criteria for disposal in Section 203(a)(1), (d) and (f)) of FLPMA and regulations in 43 CFR 2710.0-3(a)(3) and 43 CFR 2711.3-3(a)(5). A residential house, domestic well, septic system, access road, and utilities constitute the inadvertent occupancy to be resolved by the proposed sale. The patent will contain a reservation to the United States of all minerals in accordance with regulation 43 CFR 2711.5.

The BLM must receive the purchase price paid by certified check, postal money order, bank draft or cashier's check payable to the BLM within 90 days of the sale. Failure to submit the proceeds for the land will constitute a waiver of this preference consideration. No representation, warranty or covenant of any kind, express or implied, will be given or made by the United States, its officers or employees, as to access to or from the above described parcel of land, the title to the land, whether or to what extent the land may be developed, its physical condition or its past, present or potential uses, and the conveyance of any such parcel will not be on a contingency basis. The purchaser must be responsible for and aware of all applicable Federal, State, and local government policies and regulations that would affect the subject land. It is also the purchaser's responsibility to be aware of existing or prospective uses of nearby properties. Any land lacking access from a public road or highway will be conveyed as such, and future access acquisition will be the responsibility of the purchaser. To the extent required by law, the sale will be subject to the requirements of Section 120(h) of the Comprehensive Environmental Response, Compensation and Liability Act (42 U.S.C 9620(h)).

As proposed, the sale will be made, and the land will be conveyed, reserving to the United States:

1. A right-of-way thereon for ditches and canals reserved by the United States pursuant to the Act of August 30, 1890 (43 U.S.C. 945);

2. All the mineral deposits in the lands so patented, and the right of the United States or persons authorized by the United States to prospect for, mine and remove such deposits from the same under applicable laws and regulations as the Secretary of the Interior may prescribe.

The BLM will convey the lands subject to:

1. Valid existing rights;

2. Local zoning and subdivision laws, if any;

3. Right-of-way NMNM 13513 for Federal aid highway purposes granted to the New Mexico State Highway Department, its successors or assigns, pursuant to the Act of August 27, 1958, (23 U.S.C. 317).

By accepting deed/patent, and to the extent allowed by law, the purchaser agrees to indemnify, defend and hold harmless the United States from any cost, damages, claims, causes of action, penalties, fines, liabilities, and judgments of any kind or nature arising from past, present, and future acts or omissions of the purchaser, its employees, agents, contractor, or lessees, previous landowners or subsequent landowners or contractors, or lessees, or any third party, arising out of, or in connection with, the purchaser's use, occupancy, or operations on the real property which has already resulted or does hereafter result in: (1) Violations of Federal, State, and local laws and regulations which are now or may in the future become applicable to the real property; (2) Judgments, claims and demands of any kind assessed against the United States; (3) Cost, expense or damages of any kind incurred by the United States; (4) Releases or threatened releases of solid or hazardous waste(s) and/or hazardous substance(s), pollutant(s) or containment(s), and/or petroleum product or derivative of a petroleum product, as defined by Federal and State environmental laws, off, on, into, or under land, property, and other interests of the United States; (5) Other activities by which solid or hazardous substances or wastes, as defined by Federal and State environmental laws, were generated, released, stored, used, or otherwise disposed of on the real property, and any cleanup, response or remedial action, or other actions related in any manner to said solid or hazardous substance(s) or waste(s); or (6) Natural resource damages as defined by Federal and State law.

This covenant shall be construed as running with the real property, and may be enforced by the United States in a court of competent jurisdiction.

All persons claiming to own unauthorized improvements on the land are allowed 60 days from the date of sale to remove the improvements.

On February 26, 2014, the above described land will be segregated from all forms of appropriation under the public land laws, including the general mining laws, except the sale provisions of FLPMA. Until completion of the sale, the BLM is no longer accepting land use applications affecting the identified public land, except applications for the amendment of previously filed right-of-way applications or existing authorizations to increase the term of the grants in accordance with 43 CFR 2807.15 and 2886.15. The segregation will terminate upon issuance of a patent, publication in the Federal Register of a termination of the segregation, or February 26, 2016, whichever occurs first, unless extended by the BLM State Director, in accordance with 43 CFR 2711.1-2(d) prior to the termination date.

The public land will not be offered for sale until April 28, 2014.

On or before April 14, 2014, any person may submit written comments regarding the proposed sale directly to the BLM using one of the methods listed in the ADDRESSES section above.

Comments, including names, street addresses, and other contact information of respondents, will be available for public review. Before including your address, phone number, email address, or other personal identifying information in your comment, you should be aware that your entire comment—including your personal identifying information—may be made publicly available at any time. While you can ask us in your comment to withhold your personal identifying information from public review, we cannot guarantee that we will be able to do so. All submissions from organizations or businesses, and from individuals identifying themselves as representatives or officials of organizations or businesses, are available for public inspection in their entirety.

Detailed information, including the appraisal, the Environmental Assessment and the Decision relative to this direct land sale is available at the BLM Las Cruces District Office, 1800 Marquess Street, Las Cruces, New Mexico, during regular business hours between 7:45 a.m. to 4:30 p.m. The BLM Las Cruces District Manager will review objections and may sustain, vacate, or modify this realty action. In the absence of any objections, this realty action will become the final determination of the Department of the Interior.

(Authority: 43 CFR 2711.1-2)
Michael H. Tupper,
Deputy State Director, Lands and Resources.

[FR Doc. 2014-04178 Filed 2-25-14; 8:45 am]

BILLING CODE 4310-FB-P